DEPARTMENT OF THE INTERIOR

Fish and Wildlife Service

Multistate Conservation Grant Program; Priority List for Conservation Projects

AGENCY: Fish and Wildlife Service, Department of the Interior.

ACTION: Notice of receipt of priority list.

SUMMARY: The U.S. Fish and Wildlife Service (FWS) is publishing in the Federal Register the priority list of wildlife and sport fish conservation projects submitted by the International Association of Fish and Wildlife Agencies (IAFWA) for funding under the Multistate Conservation Grant Program. This notice is required by the Wildlife and Sport Fish Restoration Programs Improvement Act of 2000 (Pub. L. 106-408). FY 2006 grants may be awarded from this priority list.

FOR FURTHER INFORMATION CONTACT: Pam Matthes, Multistate Conservation Grants Program Coordinator, Division of Federal Assistance, U.S. Fish and Wildlife Service, 4401 North Fairfax Drive, Mail Stop MBSP-4020, Arlington, Virginia 22203; phone (703) 358-2156; or e-mail Pam_Matthes@fws.gov.

SUPPLEMENTARY INFORMATION: The Wildlife and Sport Fish Restoration Programs Improvement Act of 2000 (Improvement Act) amended the Pittman-Robertson Wildlife Restoration Act (16 U.S.C. 669 et seq.) and the Dingell-Johnson Sport Fish Restoration Act (16 U.S.C. 777 et seq.) and established the Multistate Conservation Grant Program. The Improvement Act authorizes grants of up to $3 million annually from funds available under each of the Restoration Acts, for a total of up to $6 million annually. Grants may be awarded from a list of priority projects recommended to the FWS by the IAFWA. The Director of the FWS, exercising the authority of the Secretary of the Interior, need not fund all IAFWA-recommended projects, but may fund only those projects identified on IAFWA's priority list. Funds under the Multistate Conservation Grant Program may be used for sport fisheries and wildlife management and research projects, boating access development, hunter safety and education, aquatic education, fish and wildlife habitat improvements and other purposes consistent with the purposes of the enabling legislation.

To be eligible for funding, a project must benefit fish and/or wildlife conservation in at least 26 States, a majority of the States in a region of the FWS, or a regional association of State fish and wildlife agencies. Grants may be awarded to a State or group of States as well as to non-governmental organizations. For the purpose of carrying out the National Survey of Fishing, Hunting and Wildlife-Associated Recreation, grants may be awarded to the FWS or to a State or a group of States. Also, IAFWA requires all project proposals to address its National Conservation Needs, which are announced annually by the IAFWA at the same time as its request for proposals. Further, applicants must provide certification that no activities conducted under a Multistate Conservation Grant will promote or encourage opposition to the regulated hunting or trapping of wildlife or to the regulated angling for or taking of fish.

Eligible project proposals are reviewed and ranked by IAFWA Committees and interested non-governmental organizations that represent conservation organizations, sportsmen organizations, and industries that support or promote fishing, hunting, trapping, recreational shooting, bow hunting, or archery. A final list of priority projects is recommended by the IAFWA's Committee on National Grants to the Directors of State fish and wildlife agencies for their approval by majority vote. The final approved list is then recommended to the FWS for funding under the Multistate Conservation Grant Program and must be submitted to the FWS by October 1.

This year, the FWS received a list of 23 IAFWA-recommended projects, 4 of which are recommended as contingent projects. They are recommended for funding in 2006, contingent on the Multistate Conservation Grant Program receiving additional funds as specified in the Safe, Accountable, Flexible, and Efficient Transportation Equity Act of 2005 (Pub. L. 109-059) passed in August 2005. The list recommended by IAFWA follows:

BILLING CODE 4310-55-P

Dated: October 31, 2005.
H. Dale Hall,
Director, U.S. Fish and Wildlife Service.

[FR Doc. 05-23489 Filed 11-29-05; 8:45 am]

BILLING CODE 4310-55-C